DEPARTMENT OF HOMELAND SECURITY

Transportation Security Administration

Intent To Request Extension From OMB of One Current Public Collection of Information: Sensitive Security Information Threat Assessment Application

AGENCY: Transportation Security Administration, DHS.

ACTION: 60-Day notice.

SUMMARY: The Transportation Security Administration (TSA) invites public comment on one currently approved Information Collection Request (ICR), Office of Management and Budget (OMB) control number 1652-0042, abstracted below that we will submit to OMB for an extension in compliance with the Paperwork Reduction Act (PRA). The ICR describes the nature of the information collection and its expected burden. The collection involves TSA determining whether certain individuals seeking access to sensitive security information (SSI) may be granted access to the SSI.

DATES: Send your comments by November 25, 2024.

ADDRESSES: Comments may be emailed to TSAPRA@tsa.dhs.gov or delivered to the TSA PRA Officer, Information Technology (IT), TSA-11, Transportation Security Administration, 6595 Springfield Center Drive, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0042; Sensitive Security Information Threat Assessment. Section 525(d) of the Department of Homeland Security Appropriations Act of 2007 (DHS Appropriations Act, Public Law 109-295, 120 Stat 1382), as reenacted, requires TSA to establish a process by which a party seeking access to SSI in a civil proceeding in federal district court can make a request to receive a record designated as SSI. TSA's process applies to parties who demonstrate a substantial need for relevant SSI in the preparation of the party's case and without the record, it would create an undue hardship to obtain the substantial equivalent of the information in the records by other means. Under this process, the party's representative may request and be granted conditional access to the SSI at issue in the case.

This process also applies to additional categories of individuals seeking access to SSI. For example, they apply to witnesses retained by a party as experts or consultants and court reporters that are required to record or transcribe testimony containing specific SSI and who do not have a current security clearance required for access to classified national security information as defined by E.O. 12958, as amended. The process is also used by a prospective bidder to submit a proposal in response to a Request for Proposal (RFP) issued by TSA. TSA may request certain SSI in order for a prospective bidder to perfect their bid. RFPs are sent to an individual involved in the performance of non-traditional contractual agreements (for example, bailments) or other transaction agreements, or an individual receiving access to SSI under 49 CFR 1520.15(e) regarding other conditional disclosures.

Applicants seeking access to SSI in federal district court litigation must complete TSA Form 2817A, SSI Access Threat Assessment Questionnaire—Litigation. Bidders and certain other applicants will be required to complete TSA Form 2817B, SSI Access Threat Assessment Questionnaire—Standard in order to have a security threat assessment completed before they can receive the requested SSI. TSA will use the information collected to conduct the security threat assessment for the purpose of determining whether the provision of such access to the information for the proceeding or other reason presents a risk of harm to the Nation.

This assessment includes: (1) a fingerprint-based criminal history records check (CHRC); (2) a name-based check to determine whether the individual poses or is suspected of posing a threat to transportation or national security, including checks against terrorism, immigration, or other databases TSA maintains or uses; and/or (3) implement other procedures and requirements for safeguarding SSI that are satisfactory to TSA including a professional responsibility check (for attorneys and court reporters). Based on the results of the security threat assessment, TSA will make a final determination on whether the individual may be granted access to the SSI.

Individuals who are members of TSA PreCheck™ (also known as TSA Pre✓® Application Program) may provide their known traveler number to facilitate the security threat assessment process. TSA permits this use of TSA PreCheck™ status based on a determination that the threat assessment for TSA PreCheck™ membership is comparable to that required for access to SSI.

TSA estimates that the total annual hour burden for this collection will be 275 hours, based on an estimated 256 annual respondents with a one-hour burden per respondent, plus 7 SSI litigant respondents with a 2.68-hour burden per respondent.

Dated: September 19, 2024.
Christina A. Walsh,
TSA Paperwork Reduction Act Officer, Information Technology.

[FR Doc. 2024-21791 Filed 9-23-24; 8:45 am]

BILLING CODE 9110-05-P